SECURITIES AND EXCHANGE COMMISSION

[Release No. 34-89531; File Nos. SR-NYSE-2020-11, SR-NYSEAMER-2020-10, SR-NYSEArca-2020-15, SR-NYSECHX-2020-05, SR-NYSENAT-2020-08]

Self-Regulatory Organizations; New York Stock Exchange LLC, NYSE Chicago, Inc., NYSE American LLC, NYSE Arca, Inc., and NYSE National, Inc.; Notice of Designation of a Longer Period for Commission Action on Proceedings To Determine Whether To Approve or Disapprove Proposed Rule Changes, as Modified by Amendment No. 1, To Amend the Schedule of Wireless Connectivity Fees and Charges To Add Wireless Connectivity Services

August 12, 2020.

On February 11, 2020, New York Stock Exchange LLC, NYSE Chicago, Inc., NYSE Arca, Inc., and NYSE National, Inc. each filed with the Securities and Exchange Commission (“Commission”), pursuant to Section 19(b)(1) of the Securities Exchange Act of 1934 (“Act”) ¹ and Rule 19b-4 thereunder,² a proposed rule change to amend the schedule of Wireless Connectivity Fees and Charges to add wireless connectivity services that transport the market data of the Exchanges. NYSE American LLC filed with the Commission a substantively identical filing on February 12, 2020.³ The proposed rule changes were published for comment in the Federal Register on February 25, 2020.⁴ On April 1, 2020, pursuant to Section 19(b)(2) of the Act,⁵ the Commission designated a longer period within which to either approve the proposed rule changes, disapprove the proposed rule changes, or institute proceedings to determine whether to approve or disapprove the proposed rule changes.⁶ On May 18, 2020, the Commission instituted proceedings to determine whether to approve or disapprove the proposed rule changes.⁷ On July 27, 2020, the Exchanges each filed Amendment No. 1 to the proposed rule changes. Notice of Amendment No. 1 to the proposed rule changes was published for comment in the Federal Register on August 7, 2020.⁸ The Commission has received comment letters on the proposed rule changes, as modified by Amendment No. 1.⁹

¹ 15 U.S.C. 78s(b)(1).

² 17 CFR 240.19b-4.

³ New York Stock Exchange LLC, NYSE Chicago, Inc., NYSE American LLC, NYSE Arca, Inc., and NYSE National, Inc. are collectively referred to herein as the “Exchanges.”

⁴ See Securities Exchange Act Release Nos. 88237 (February 19, 2020), 85 FR 10752 (February 25, 2020) (SR-NYSE-2020-11); 88238 (February 19, 2020), 85 FR 10776 (February 25, 2020) (SR-NYSEAMER-2020-10); 88239 (February 19, 2020), 85 FR 10786 (February 25, 2020) (SR-NYSEArca-2020-15); 88240 (February 19, 2020), 85 FR 10795 (February 25, 2020) (SR-NYSECHX-2020-05); and 88241 (February 19, 2020), 85 FR 10738 (February 25, 2020) (SR-NYSENAT-2020-08) (collectively, the “Notices”).

⁵ 15 U.S.C. 78s(b)(2).

⁶ See Securities Exchange Act Release No. 88540 (April 1, 2020), 85 FR 19562 (April 7, 2020). The Commission designated May 25, 2020, as the date by which it should approve, disapprove, or institute proceedings to determine whether to approve or disapprove the proposed rule changes.

⁷ See Securities Exchange Act Release No. 88901 (May 18, 2020), 85 FR 31273 (May 22, 2020).

⁸ See Securities Exchange Act Release Nos. 89458 (August 3, 2020), 85 FR 48045 (August 7, 2020) (SR-NYSE-2020-11); 89459 (August 3, 2020), 85 FR 48052 (August 7, 2020) (SR-NYSEAMER-2020-10); 89460 (August 3, 2020), 85 FR 48017 (August 7, 2020) (SR-NYSEArca-2020-15); 89461 (August 3, 2020), 85 FR 48039 (August 7, 2020) (SR-NYSECHX-2020-05); and 89462 (August 3, 2020), 85 FR 48008 (August 7, 2020) (SR-NYSENAT-2020-08).

⁹ Comments received on the proposed rule changes, as modified by Amendment No. 1, are available on the Commission's website at: https://www.sec.gov/comments/sr-nyse-2020-11/srnyse202011.htm.

Section 19(b)(2) of the Act ¹⁰ provides that, after initiating proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule changes were published for notice and comment in the Federal Register on February 25, 2020.¹¹ August 23, 2020 is 180 days from that date, and October 22, 2020 is 240 days from that date.

¹⁰ 15 U.S.C. 78s(b)(2).

¹¹ See Notices, supra note 4.

The Commission finds it appropriate to designate a longer period within which to issue an order approving or disapproving the proposed rule changes, as modified by Amendment No. 1, so that it has sufficient time to consider the proposed rule changes, as modified by Amendment No. 1, the issues raised in the comment letters that have been submitted in connection therewith, and the Exchanges' responses to comments. Accordingly, the Commission, pursuant to Section 19(b)(2) of the Act,¹² designates October 22, 2020 as the date by which the Commission should either approve or disapprove the proposed rule changes (File Nos. SR-NYSE-2020-11, SR-NYSEAMER-2020-10, SR-NYSEArca-2020-15, SR-NYSECHX-2020-05, SR-NYSENAT-2020-08), as modified by Amendment No. 1.

¹² 15 U.S.C. 78s(b)(2).

For the Commission, by the Division of Trading and Markets, pursuant to delegated authority.¹³
¹³ 17 CFR 200.30-3(a)(31).
J. Matthew DeLesDernier,
Assistant Secretary.

[FR Doc. 2020-17964 Filed 8-17-20; 8:45 am]

BILLING CODE 8011-01-P